DEPARTMENT OF TRANSPORTATION

Federal Motor Carrier Safety Administration

[Docket No. FMCSA-2023-0159]

Agency Information Collection Activities; Renewal of an Approved Information Collection: Inspection, Repair and Maintenance

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. The information collection concerns records of inspection, repair, and maintenance of commercial motor vehicles (CMVs). FMCSA is seeking to renew an ICR titled, “Inspection, Repair and Maintenance.”

DATES: Comments on this notice must be received on or before January 16, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Jose R. Cestero, Vehicle and Roadside Operations Division, DOT, FMCSA, West Building, 6th Floor, 1200 New Jersey Avenue SE, Washington, DC 20590; 202-366-5541; jose.cestero@dot.gov.

SUPPLEMENTARY INFORMATION:

Title: Inspection, Repair and Maintenance.

OMB Control Number: 2126-0003.

Type of Request: Renewal of a currently approved information collection.

Respondents: Motor carriers and CMV drivers.

Estimated Number of Respondents: 757,652 motor carriers and 5,646,722 drivers.

Estimated Time per Response: Varies according to the requirements for specific records.

Expiration Date: December 31, 2023.

Frequency of Response: Varies according to requirements for specific records.

Estimated Total Annual Burden: 19,103,153 hours [14,602,802 hours for inspection, repair, and maintenance + 3,516,342 hours for driver inspection reports + 161,528 hours for disposition of roadside inspection reports + 777,864 hours for periodic inspections + 23,571 hours for records of inspector qualifications + 21,046 hours for records of brake inspector qualifications].

Background

The Secretary of Transportation (Secretary) is authorized under the provisions of 49 U.S.C. 31502 to prescribe requirements for, among other things, safety of operations of equipment of motor carriers that operate CMVs in interstate commerce. Under 49 U.S.C. 31136, the Secretary also has authority to prescribe regulations to ensure that CMVs are maintained, equipped, loaded, and operated safely. Under 49 U.S.C. 31142 the Secretary must establish standards for annual or more frequent inspections of CMVs. The Secretary's authority to establish improved standards or methods to ensure brakes and brake systems of CMVs are inspected by appropriate employees and maintained properly is provided under 49 U.S.C. 31137(g).

Motor carriers must maintain, or require maintenance of, records documenting the inspection, repair and maintenance activities performed on their owned and leased vehicles. There are no prescribed forms. Electronic recordkeeping is allowed (see 49 Code of Federal Regulations (CFR) 390.31(d)). Documents requiring a signature must be capable of replication (e.g., photocopy, facsimile, etc.) in such form that will provide an opportunity for signature verification upon demand. Also, if electronic recordkeeping is used, all the relevant data on the original documents must be included in the electronic transmission for the records to be valid.

Most motor carriers would keep some records without any regulatory requirements to do so. Records of inspection, repair, and maintenance; roadside inspection reports; driver vehicle inspection reports; the documentation of periodic inspections; the evidence of the qualifications of individuals performing periodic inspections; and the evidence of brake inspectors' qualifications contain the minimum amount of information necessary to document that a motor carrier has established a system of inspection, repair, and maintenance for its equipment which meets the standards in 49 CFR part 396.

FMCSA and its representatives use these records to verify motor carriers' compliance with the inspection, repair, and maintenance standards in part 396. This ICR supports DOT's strategic goal of safety. The ICR also ensures that motor carriers have adequate records to document the inspection, repair, and maintenance of their CMVs, and to ensure that adequate measures are taken to keep their CMVs in safe and proper operating condition at all times. Compliance with the inspection, repair, and maintenance regulations helps to reduce the likelihood of accidents attributable, in whole or in part, to the mechanical condition of the CMV.

This ICR submittal includes updated data regarding the number of motor carriers subject to the Federal Motor Carrier Safety Regulations, vehicle counts, inspections, and other underlying data used to estimate the total burden hours.

If the recordkeeping were required to be completed less frequently, it would greatly hinder the ability of FMCSA and State officials and representatives to ascertain that CMVs are satisfactorily maintained. The timely documentation of CMV inspection, repair, and maintenance enables FMCSA and State officials to evaluate the present state of a motor carrier's CMV maintenance program and to check the current level of regulatory compliance at any point in a carrier's maintenance schedule or program.

FMCSA has identified periodic inspection standards of 22 States, the District of Columbia, the Alabama Liquefied Petroleum Gas Board, 10 Canadian Provinces, and one Canadian Territory that are comparable to, or as effective as, the Federal periodic inspection requirements. FMCSA does not require Federal periodic inspections and the related recordkeeping for motor carriers that comply with these equivalent periodic inspection programs. FMCSA is not aware of any other duplicative standards or recordkeeping requirements that apply to motor carriers.

On September 25, 2023, FMCSA published a notice in the Federal Register with a 60-day public comment period to announce this request to update the information collection (88 FR 65764). The Agency received one comment from Whip Around in response to the notice. Whip Around provided general support for the ICR, however, they suggested the use of electronic recordkeeping to reduce the need for frequent inspection, repair, and maintenance.

While this comment does not impact the information collection, FMCSA agrees with Whip Around's assessment that the process of creating, obtaining, and retaining documents can be improved by digitizing and automating vehicle inspection, repairs, and maintenance recordkeeping. The Agency has actively pursued this objective, evident by the amendment on December 16, 2015 (80 FR 78292). This amendment established minimum performance and design standards for electronic logging devices (ELDs) related to hours-of-service (HOS), mandating their use for drivers preparing HOS records of duty status. The amendment aims to enhance CMV safety, reduce paperwork burdens for motor carriers and drivers, and improve compliance with applicable HOS rules by promoting the use of ELDs.

Additionally, on April 16, 2018 (83 FR 16210), FMCSA introduced amendments permitting the use of electronic records and signatures. This aligned, in part, with the Government Paperwork Elimination Act and the Electronic Signatures in Global and National Commerce Act, as it only applies to those documents that FMCSA's regulations obligate entities or individuals to retain. The amendment also updated references to outdated recordkeeping and reporting methods throughout chapter III of subtitle B of 49 CFR (49 CFR parts 300 through 399) to make them technologically neutral.

FMCSA's ongoing efforts include projects related to providing data electronically during roadside inspections. One such project is the Operational Test of In-Motion CMV Inspections (Level VIII Inspections) in collaboration with the Commercial Vehicle Safety Alliance, which was noted by Whip Around in its comment. The project's goal is to transmit data through the vehicle's telematics to roadside inspectors while the vehicle is in motion. In addition to these efforts, the Agency will continue to pursue opportunities to increase safety and reduce the burden to motor carriers and CMV drivers.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2023-27459 Filed 12-13-23; 8:45 am]

BILLING CODE 4910-EX-P